DEPARTMENT OF HEALTH AND HUMAN SERVICES

[Document Identifier OS-0990-New; 60-Day Notice]

Agency Information Collection Request—60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Naomi.Cook@hhs.gov, or call the Reports Clearance Office on (202) 690-6162. Written comments and recommendations for the proposed information collections must be directed to the OS Paperwork Clearance Officer at the above email address within 60-days.

Proposed Project: New Comprehensive Communication Campaign on Right To Non-Discrimination in Certain Health and Human Service Programs—OMB No. 0990-NEW-Office for Civil Rights (OCR).

Abstract: OCR is proposing to conduct a nationwide communication campaign to educate the Latino community, particularly Limited English Proficiency (LEP) Latinos about their right to non-discrimination in certain health and human service programs which receive HHS Federal Financial Assistance. OCR requires formative and process information about various U.S. Latino communities in order to conduct the campaign effectively. The data collected will inform campaign strategies, messages, materials and outreach. OCR will oversee this one year communication campaign.

Estimated Annualized Burden Table
Forms | Type of respondent | Number of respondents | Number of responses per respondent | Average burden (in hours) per response | Total burden hours
Focus Group Screening | Individual | 40 | 1 | 6/60 | 4
Focus Group Session | Individual | 20 | 1 | 2 | 40
Web-Based interviews | Individuals | 600 | 1 | 17/60 | 170
Total |  |  |  |  | 214

Keith A. Tucker,
Office of the Secretary, Paperwork Reduction Act Clearance Officer.

[FR Doc. 2012-9524 Filed 4-19-12; 8:45 am]

BILLING CODE 4153-01-P